DEPARTMENT OF TRANSPORTATION

Federal Aviation Administration

14 CFR Part 71

[Airspace Docket No. 00-ACE-24]

Amendment to Class E Airspace; Washington, MO

AGENCY: Federal Aviation Administration, DOT.

ACTION: Direct final rule; confirmation of effective date.

SUMMARY: This document confirms the effective date of a direct final rule which revises the Class E airspace at Washington, MO as published in the Federal Register August 11, 2000 (65 FR 49192) Airspace Docket No. 00-ACE-24, and corrected in the Federal Register (65 FR 52811) Airspace Docket No. 00-ACE-24.

DATES: The direct final rule published at 65 FR 49192 and corrected in 65 FR 52811 is effective on 0901 UTC, November 30, 2000.

FOR FURTHER INFORMATION CONTACT: Brenda Mumper, Air Traffic Division, Airspace Branch, ACE-520A, DOT Regional Headquarters Building, Federal Aviation Administration, 901 Locust, Kansas City, MO 64106; telephone: (816) 329-2525.

SUPPLEMENTARY INFORMATION:

History

On August 11, 2000, the FAA published in the Federal Register a direct final rule; request for comments which revises the Class E airspace at Washington, MO (65 FR 49192, Airspace Docket No. 00-ACE-24). An error in longitude for the Washington Memorial Airport, MO was corrected in (65 FR 52811, Airspace Docket No. 00-ACE-24). After careful review of all available information related to the subject presented above, the FAA has determined that air safety and the public interest require adoption of the rule.

The FAA uses the direct final rulemaking procedure for a non-controversial rule where the FAA believes that there will be no adverse public comment. This direct final rule advised the pubic that no adverse comments were anticipated, and that unless a written adverse comment, or a written notice of intent to submit such an adverse comment, were received within the comment period, the regulation would become effective on November 30, 2000. No adverse comments were received, and thus this notice confirms that this direct final rule will become effective on that date.

Issued in Kansas City, MO on October 27, 2000.
Richard L. Day,
Acting Manager, Air Traffic Division, Central Region.

[FR Doc. 00-28845 Filed 11-8-00; 8:45 am]

BILLING CODE 4910-13-M